DEPARTMENT OF JUSTICE

Antitrust Division

Notice Pursuant to the National Cooperative Research and Production Act of 1993—Cooperative Research Group on High Efficiency Dilute Gasoline Engine III

Notice is hereby given that, on March 19, 2015, pursuant to section 6(a) of the National Cooperative Research and Production Act of 1993, 15 U.S.C. 4301 et seq. (“the Act”), Southwest Research Institute—Cooperative Research Group on High-Efficiency Dilute Gasoline Engine III (“HEDGE III”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Borgwarner, Inc., Auburn Hills, MI; Caterpillar, Inc., Peoria, IL; Chrysler Group, LLC, Auburn Hills, MI; Continental Automotive GMBH, Regensburg, GERMANY; Cummins, Inc., Columbus, IN; Delphi Corporation, Auburn Hills, MI; Denso International America, Inc., Southfield, MI; Diamond Electric, Dundee, MI; Eaton Corporation, Southfield, MI; Federal Mogul, Plymouth, MI; Ford Motor Company, Dearborn, MI; GM Global Technology Operations, LLC, Detroit, MI; Hitachi America, Ltd., Farmington Hills, MI; Honda R&D, Tochigi, JAPAN; Honeywell International, Inc., Torrance, CA; Hyundai Motor Company, Seoul, KOREA; IHI Corporation, Yokohama, JAPAN; Jaguar Land Rover, Coventry, UNITED KINGDOM; Lubrizol Corporation, Wickliffe, OH; NGK Spark Plug Company, Nagoya, JAPAN; Peugeot Citroen Automobiles, Velizy-Villacoublay, Cedex, FRANCE; Renault, Boulogne Billancourt, FRANCE; Sejong Industrial Co., Ltd., Kyounggi-do, KOREA; Tenneco Automotive Operating Co., Inc., Grass Lake, MI; Toyota Motor Corporation, Shizuoka, JAPAN; Volkswagen Group of America, Inc., Herndon, VA; and Woodward, Inc., Fort Collins, CO.

The general area of HEDGE III's planned activity is to develop the most cost-effective solutions for future gasoline engine applications. The emissions goals include the most stringent regulations in each of the three developed markets, Asia, Europe, and North America. HEDGE III will target the LEV III standards and extensively investigate cold-start technologies and monitor PM/PN emissions on a regular basis. The efficiency goals include both practical thermal efficiency targets, in terms of BSFC goals on specific platforms, as well as overall thermal efficiency goals to achieve a “best in class” efficiency level.

Patricia A. Brink,
Director of Civil Enforcement, Antitrust Division.

[FR Doc. 2015-09321 Filed 4-21-15; 8:45 am]

BILLING CODE 4410-11-P